DEPARTMENT OF DEFENSE

Office of the Secretary

Defense Science Board Meeting

AGENCY: Department of Defense.

ACTION: Notice of Advisory Committee meeting.

SUMMARY: The Defense Science Board (DSB) Task Force on Intelligence in Support of War on Terrorism will meet in closed session on April 22-23, 2002; May 20-21, 2002; and June 17-18, 2002, in the Pentagon. The Task Force will identify capabilities, technologies and approaches for strengthening intelligence in support of the war against terrorism.

The mission of the Defense Science Board is to advise the Secretary of Defense and the Under Secretary of Defense for Acquisition, Technology & Logistics on scientific and technical matters as they affect the perceived needs of the Department of Defense. At these meetings, the Defense Science Board Task Force will address capabilities and approaches for achieving early indications and warning of terrorist capabilities and intentions, providing effective operational and tactical intelligence in support of crisis operations against terrorists, and the capability for attribution of attackers, should a terrorist event occur. The Task Force will also consider promising new capabilities facilitated by recent changes in statutes (e.g., Combating Terrorism Act of 2001).

In accordance with section 10(d) of the Federal Advisory Committee Act, Public Law 92-463, as amended (5 U.S.C. App. II), it has been determined that these Defense Science Board Task Force meetings concern matters listed in 5 U.S.C. 552b(c)(1) and that, accordingly, these meetings will be closed to the public.

Dated: March 8, 2002.
Patricia L. Toppings,
Alternate OSD Federal Register Liaison Office, Department of Defense.

[FR Doc. 02-6115 Filed 3-13-02; 8:45 am]

BILLING CODE 5001-08-M